DEPARTMENT OF AGRICULTURE

Natural Resources Conservation Service

Availability of Proposed Changes to Conservation Standards in Section IV of the Field Office Technical Guide, South Dakota

AGENCY: USDA Natural Resources Conservation Service, USDA.

ACTION: Notice of availability of proposed changes to conservation practice standards in Section IV of the Field Office Technical Guide (FOTG) of NRCS in South Dakota for review and comment.

SUMMARY: It is the intention of NRCS in South Dakota to issue a revised conservation practice standard in Section IV of the FOTG for the following practice: Constructed Wetland (656).

DATES: Comments on this notice must be received on or before October 16, 2000.

ADDRESSES: All comments concerning the proposed conservation practice standard changes should be addressed to: Dean Fisher, State Conservationist, NRCS, 200 Fourth Street SW, Huron, South Dakota 57350. Copies of these standards will be made available upon written request.

Dated: August 30, 2000.
Dean Fisher,
State Conservationist, Natural Resources Conservation Service, Huron, South Dakota 57350.

[FR Doc. 00-23577 Filed 9-13-00; 8:45 am]

BILLING CODE 3410-16-P